NUCLEAR REGULATORY COMMISSION

Advisory Committee on the Medical Uses of Isotopes: Meeting Notice

AGENCY: U.S. Nuclear Regulatory Commission.

ACTION: Notice of meeting.

SUMMARY: The U.S. Nuclear Regulatory Commission will convene a meeting of the Advisory Committee on the Medical Uses of Isotopes (ACMUI) on October 28, 2002. The meeting will take place at the address provided below. All sessions of the meeting will be open to the public with the exception of the first session, which will be closed for a security briefing and to conduct administrative business related to internal personnel rules and/or practices of ACMUI members. Topics of discussion in the public session will include: (1) Status of the implementation of the revised title 10, Code of Federal Regulations, part 35; (2) Status of NUREG 1556, Vol. 9 (Consolidated Guidance About Materials Licensees: Program-Specific Guidance About Licenses of Broad Scope); (3) Status: ACMUI Subcommittee's training and experience recommendations as they pertain to the revised title 10 Code of Federal Regulations, part 35; and, (4) Discussion of the National Materials Program report.

DATES: The public meeting will be held on Monday October 28, 2002, from 10 a.m. to 5 p.m. The closed session will be held from 8 a.m. to 9:45 a.m on October 28.

ADDRESSES: U.S. Nuclear Regulatory Commission, Two White Flint North Building, Conference Room T2B3, 11545 Rockville Pike, Rockville, MD 20852-2738.

FOR FURTHER INFORMATION CONTACT: Angela R. Williamson, telephone (301) 415-5030; e-mail arw@nrc.gov of the Office of Nuclear Material Safety and Safeguards, U.S. Nuclear Regulatory Commission, Washington, DC 20555-0001.

Conduct of the Meeting

Manuel D. Cerqueira, M.D., will chair the meeting. Dr. Cerqueira will conduct the meeting in a manner that will facilitate the orderly conduct of business. The following procedures apply to public participation in the meeting:

1. Persons who wish to provide a written statement should submit a reproducible copy to Angela Williamson, U.S. Nuclear Regulatory Commission, Two White Flint North, Mail Stop T8F5, Washington, DC 20555-0001. Submittals must be postmarked by October 24, 2002, and must pertain to the topics on the agenda for the meeting.

2. Questions from members of the public will be permitted during the meeting, at the discretion of the Chairman.

3. The transcript and written comments will be available for inspection on NRC's web site (www.nrc.gov) and at the NRC Public Document Room, 11555 Rockville Pike, Rockville, MD 20852-2738, telephone (800) 397-4209, on or about December 3, 2002. Minutes of the meeting will be available on or about January 7, 2003.

This meeting will be held in accordance with the Atomic Energy Act of 1954, as amended (primarily section 161a); the Federal Advisory Committee Act (5 U.S.C. App); and the Commission's regulations in title 10, U.S. Code of Federal Regulations, part 7.

Dated: October 17, 2002.
Andrew L. Bates,
Advisory Committee Management Officer.

[FR Doc. 02-27003 Filed 10-22-02; 8:45 am]

BILLING CODE 7590-01-P